DEPARTMENT OF ENERGY

Federal Energy Regulatory Commission

[Docket No. CP15-138-000]

Transcontinental Gas Pipe Line Company, LLC; Notice of Availability of the Draft Environmental Impact Statement for the Proposed Atlantic Sunrise Project

The staff of the Federal Energy Regulatory Commission (FERC or Commission) has prepared a draft environmental impact statement (EIS) for the Atlantic Sunrise Project, proposed by Transcontinental Gas Pipe Line Company, LLC (Transco) in the above-referenced docket. Transco requests authorization to expand its existing pipeline system from the Marcellus Shale production area in northern Pennsylvania to deliver an incremental 1.7 million dekatherms per day of year-round firm transportation capacity to its existing southeastern market areas.

The draft EIS assesses the potential environmental effects of the construction and operation of the project in accordance with the requirements of the National Environmental Policy Act. The FERC staff concludes that approval of the project would result in some adverse environmental impacts; however, most of these impacts would be reduced to less-than-significant levels with the implementation of Transco's proposed mitigation and the additional measures recommended in the draft EIS.

The U.S. Army Corps of Engineers participated as a cooperating agency in the preparation of the EIS. Cooperating agencies have jurisdiction by law or special expertise with respect to resources potentially affected by the proposal and participate in the National Environmental Policy Act analysis. Although the U.S. Army Corps of Engineers provided input to the conclusions and recommendations presented in the draft EIS, the agency will present its own conclusions and recommendations in its respective record of decision or determination for the project.

The draft EIS addresses the potential environmental effects of the construction and operation of about 197.7 miles of pipeline composed of the following facilities:

• 183.7 miles of new 30- and 42-inch-diameter natural gas pipeline in Pennsylvania;

• 11.5 miles of new 36- and 42-inch-diameter pipeline looping in Pennsylvania;

• 2.5 miles of 30-inch-diameter replacements in Virginia; and

• associated equipment and facilities.

The project's proposed aboveground facilities include two new compressor stations in Pennsylvania; additional compression and related modifications to three existing compressor stations in Pennsylvania and Maryland; two new meter stations and three new regulator stations in Pennsylvania; and minor modifications at existing aboveground facilities at various locations in Pennsylvania, Virginia, North Carolina, and South Carolina to allow for bi-directional flow and the installation of supplemental odorization, odor detection, and/or odor masking/deodorization equipment.

The FERC staff mailed copies of the draft EIS to federal, state, and local government representatives and agencies; elected officials; environmental and public interest groups; Native American tribes; potentially affected landowners and other interested individuals and groups; newspapers and libraries in the project area; and parties to this proceeding. Paper copy versions of this EIS were mailed to those specifically requesting them; all others received a CD version. In addition, the draft EIS is available for public viewing on the FERC's Web site (www.ferc.gov) using the eLibrary link. A limited number of copies are available for distribution and public inspection at: Federal Energy Regulatory Commission, Public Reference Room, 888 First Street NE., Room 2A, Washington, DC 20426, (202) 502-8371.

Any person wishing to comment on the draft EIS may do so. To ensure consideration of your comments on the proposal in the final EIS, it is important that the Commission receive your comments on or before June 27, 2016.

For your convenience, there are four methods you can use to submit your comments to the Commission. In all instances, please reference the project docket number (CP15-138-000) with your submission. The Commission encourages electronic filing of comments and has expert staff available to assist you at (202) 502-8258 or efiling@ferc.gov.

(1) You can file your comments electronically using the eComment feature on the Commission's Web site (www.ferc.gov) under the link to Documents and Filings. This is an easy method for submitting brief, text-only comments on a project.

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type.

(3) You can file a paper copy of your comments by mailing them to the following address: Kimberly D. Bose, Secretary, Federal Energy Regulatory Commission, 888 First Street NE., Room 1A, Washington, DC 20426.

(4) In lieu of sending written or electronic comments, the Commission invites you to attend one of the public comment meetings its staff will conduct in the project area to receive comments on the draft EIS. We ¹ encourage interested groups and individuals to attend and present oral comments on the draft EIS. We will begin our sign up of speakers at 6:30 p.m. All meetings will begin at 7:00 p.m. and are scheduled as follows:

¹ “We,” “us,” and “our” refer to the environmental staff of the FERC's Office of Energy Projects.

Date | Location
June 13, 2016 | Manheim Township High School, 115 Blue Streak Boulevard, Lancaster, PA 17601, (717) 560-3098.
June 14, 2016 | Lebanon Valley College, Lutz Auditorium, 101 N. College Avenue, Annville, PA 17003, (717) 867-6310.
June 15, 2016 | Bloomsburg University, Haas Center for the Arts—Mitrani Hall, 400 E. Second Street, Bloomsburg, PA 17815, (570) 389-4291.
June 16, 2016 | Lake Lehmon High School, 1128 Old Route 115, Dallas, PA 18612, (570) 255-2705.

The Baltimore District of the U.S. Army Corps of Engineers will participate (jointly with FERC) in the public comment meetings to gather information on this proposal to assist them in the review of the permit application for the proposed activity.

The joint comment meetings will begin at 7:00 p.m. with a description of our environmental review process by Commission staff, after which speakers will be called. The meetings will end once all speakers have provided their comments or at 10:30 p.m., whichever comes first. Please note that there may be a time limit of three minutes to present comments, and speakers should structure their comments accordingly. If time limits are implemented, they will be strictly enforced to ensure that as many individuals as possible are given an opportunity to comment. The meetings will be recorded by a court reporter to ensure comments are accurately recorded. Transcripts will be entered into the formal record of the Commission proceeding.

Any person seeking to become a party to the proceeding must file a motion to intervene pursuant to Rule 214 of the Commission's Rules of Practice and Procedures (Title 18 Code of Federal Regulations Part 385.214).² Only intervenors have the right to seek rehearing of the Commission's decision. The Commission grants affected landowners and others with environmental concerns intervenor status upon showing good cause by stating that they have a clear and direct interest in this proceeding that no other party can adequately represent. Simply filing environmental comments will not give you intervenor status, but you do not need intervenor status to have your comments considered.

² See the previous discussion on the methods for filing comments.

Questions?

Additional information about the project is available from the Commission's Office of External Affairs, at (866) 208-FERC, or on the FERC Web site (www.ferc.gov) using the eLibrary link. Click on the eLibrary link, click on “General Search,” and enter the docket number excluding the last three digits in the Docket Number field (i.e., CP15-138). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to http://www.ferc.gov/docs-filing/esubscription.asp.

Dated: May 5, 2016.
Kimberly D. Bose,
Secretary.

[FR Doc. 2016-11223 Filed 5-11-16; 8:45 am]

BILLING CODE 6717-01-P